DEPARTMENT OF TRANSPORTATION

Federal Aviation Administration

[FAA-2024-2488]

Agency Information Collection Activities: Requests for Comments; Clearance of Renewed Approval of Information Collection: “Generic Clearance for Customer Interactions”

AGENCY: Federal Aviation Administration (FAA), DOT.

ACTION: Notice and request for comments.

SUMMARY: In accordance with the Paperwork Reduction Act of 1995, FAA invites public comments about our intention to request the Office of Management and Budget (OMB) approval to renew an information collection. Customer Interactions provide the Federal Aviation Administration valuable information and connect the agency to the public. The Federal Aviation Administration would utilized a Generic Clearance for Customer Interactions that support the Agency's mission to become more accessible and transparent.

DATES: Written comments should be submitted by December 23, 2024.

ADDRESSES: Please send written comments:

By Electronic Docket: www.regulations.gov (Enter docket number into search field).

By mail: Barbara Hall 10101 Hillwood Parkway, Fort Worth, TX 76101.

FOR FURTHER INFORMATION CONTACT: Barbara Hall by email at: Barbara.l.hall@faa.goc; phone: 817-222-5448

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0772.

Title: Generic Clearance for Customer Interactions.

Form Numbers: NA.

Type of Review: Extensional of an information collection.

Background: Individual citizens or organizations may voluntarily respond to this collection. This collection of information will support the Federal Aviation Administration's mission. The Agency will collect qualitative and quantitative data that informs scientific research; aviation assessments and monitoring efforts; validate models or tools; and enhance the quantity and quality of data collected across communities. The agency will use this data to create an avenue to incorporate local knowledge and needs, and to contribute to increased data sharing, open data, and government transparency. The Federal Aviation Administration may sponsor the collection of this type of information in connection with aviation projects. All such collections will follow Agency policies and regulations. Collections under this generic ICR will be from volunteers who participate on their own initiative through an open and transparent process.

Respondents: 110,000 Individual citizens or organizations who interact with the agency may voluntarily respond to this collection.

Frequency: As Needed.

Estimated Average Burden per Response: 5 minutes.

Estimated Total Annual Burden: 18,330.

Issued in Fort Worth, TX, on October 17, 2024.
Barbara Hall,
Information Collection Officer, ASP-110, AFN.

[FR Doc. 2024-24468 Filed 10-22-24; 8:45 am]

BILLING CODE 4910-13-P